FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201349-002.

Agreement Name: World Shipping Council Agreement.

Parties: COSCO SHIPPING Lines Co., Ltd., Orient Overseas Container Line Ltd., and OOCL (Europe) Limited (acting as a single party); CMA CGM S.A., APL Co. Pte. Ltd., American President Lines, LLC and ANL Singapore Pte. Ltd. (acting as a single party); Crowley Caribbean Services, LLC and Crowley Latin America Services, LLC (acting as a single party); Evergreen Marine Corporation (Taiwan) Ltd.; Hapag-Lloyd AG; HMM Company Limited; Independent Container Line, Ltd.; Kawasaki Kisen Kaisha Ltd.; Maersk A/S and Hamburg Sud (acting as a single party); MSC Mediterranean Shipping Company SA; Mitsui O.S.K. Lines Ltd.; Nippon Yusen Kaisha; Ocean Network Express Pte. Ltd.; Wallenius Wilhelmsen Ocean AS; Wan Hai Lines Ltd. and Wan Hai Lines (Singapore) Pte. Ltd. (acting as a single party); Yang Ming Marine Transport Corp.; Zim Integrated Shipping Services, Ltd.; Matson Navigation Company, Inc.; and Swire Shipping Pte. Ltd.

Filing Party: Robert Magovern; Cozen O'Connor.

Synopsis: The amendment adds Swire Shipping Pte. Ltd. as a party to the Agreement.

Proposed Effective Date: 3/19/2022.

Location: https://www2.fmc.gov/FMC.Agreements.Web/Public/AgreementHistory/34503.

Dated: February 4, 2022.
William Cody,
Secretary.

[FR Doc. 2022-02742 Filed 2-8-22; 8:45 am]

BILLING CODE 6730-02-P